DEPARTMENT OF COMMERCE

Economic Development Administration

Notice of Petitions by Firms for Determination of Eligibility To Apply for Trade Adjustment Assistance

AGENCY: Economic Development Administration, Department of Commerce.

ACTION: Notice and Opportunity for Public Comment.

Pursuant to section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment December 1, 2007 Through December 31, 2007
Firm | Address | Date accepted for filing | Products
Electronic Systems, Inc. | 600 E. 50th Street North, P.O. Box 5013, Sioux Falls, SD 57104 | 12/1/2007 | Printed circuit boards and other electronic component assemblies.
Machine Tool Automation Corp dba Bayer | 5150 N. 24th Street, Phoenix, AZ 95016 | 12/1/2007 | Designs and manufactures machine tool accessories and workholding components. Products include automated and manual pallet switching systems, custom pallets and tooling designed to shorten setup time for vertical machining centers.
Williams & Hussey Machine Company, Inc | 70 Power Street, Milford, NH 03055 | 12/1/2007 | Woodworking machinery as well as accessories and knives to accompany the machines.
Matador Tool & Die, Inc | 1959 Will Street, NW., Grand, MI 49504 | 12/1/2007 | Molds for metals and plastics.
JKK Machine & Engine, LLC | PO Box 13672, Alexandria, LA 71315 | 12/20/2007 | Rebuilds diesel engines and custom parts for industry use.
John J Steuby Company | 6002 N. Lindbergh, Hazelwood, MO 63042 | 12/20/2007 | Precision machined fittings/valves.
Cen-Tex Seed & Delinting, Inc | 1301 N. Old Hwy 77 and 81 S., Hillsboro, TX 76645 | 12/28/2007

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in section 315.9 of EDA's final rule (71 FR 56704) for procedures for requesting a public hearing. The Catalog of Federal Domestic Assistance official program number and title of the program under which these petitions are submitted is 11.313, Trade Adjustment Assistance.

Dated: January 14, 2008.
William P. Kittredge,
Program Officer for TAA.

[FR Doc. E8-869 Filed 1-17-08; 8:45 am]

BILLING CODE 3510-24-P